DEPARTMENT OF COMMERCE

Foreign-Trade Zones Board

[Docket 20-2009 and 22-2009]

Foreign-Trade Zones 29 and 203 Applications for Subzone Authority Dow Corning Corporation and REC Silicon; Notice of Public Hearing and Extension of Comment Period

A public hearing will be held on the applications for subzone authority at the Dow Corning Corporation (Dow Corning) facilities in Carrollton, Elizabethtown and Shepherdsville, Kentucky (74 FR 21621-21622, 5/8/09) and at the REC Silicon facility in Moses Lake, Washington (74 FR 25488-25489, 5/28/09). The Commerce examiner will hold the public hearing on September 1, 2009 at 1 p.m., at the Department of Commerce, Room 4830, 1401 Constitution Ave., NW., Washington, DC 20230. Interested parties should indicate their intent to participate in the hearing and provide a summary of their remarks no later than August 28, 2009.

The comment period for the cases referenced above is being extended to September 16, 2009, to allow interested parties additional time in which to comment. Rebuttal comments may be submitted during the subsequent 15-day period, until October 1, 2009. Submissions (original and one electronic copy) shall be addressed to the Board's Executive Secretary at: Foreign-Trade Zones Board, U.S. Department of Commerce, Room 2111, 1401 Constitution Ave., NW., Washington, DC 20230.

For further information, contact Elizabeth Whiteman at Elizabeth_Whiteman@ita.doc.gov or (202) 482-0473.

Dated: June 30, 2009.
Andrew McGilvray,
Executive Secretary.

[FR Doc. E9-15966 Filed 7-6-09; 8:45 am]

BILLING CODE 3510-DS-P